DEPARTMENT OF ENERGY

Federal Energy Regulatory Commission

Combined Notice of Filings

Take notice that the Commission has received the following Natural Gas Pipeline Rate and Refund Report filings:

Filings Instituting Proceedings

Docket Number: PR16-51-001.

Applicants: DCP Guadalupe Pipeline, LLC.

Description: Tariff filing per 284.123(b), (e): Amended SOC and supplemental information per 284.123(g)(7). Effective 5/1/2016; Filing Type: 1270.

Filed Date: 6/24/2016.

Accession Number: 201606245098, http://elibrary.ferc.gov/idmws/doc_info.asp?accession_num=20160415-5222.

Comments Due: 5 p.m. ET 7/15/16.

284.123(g) Protests Due: 5 p.m. ET 7/15/16.

Docket Number: PR16-60-000.

Applicants: Enable Oklahoma Intrastate Transmission, LLC.

Description: Tariff filing per 284.123(e) + (g): Revised Transportation SOC 2016 to be effective 7/25/2016; Filing Type: 1280.

Filed Date: 6/23/2016.

Accession Number: 201606235163, http://elibrary.ferc.gov/idmws/doc_info.asp?accession_num=20160415-5222.

Comments Due: 5 p.m. ET 7/14/16.

284.123(g) Protests Due: 5 p.m. ET 8/22/16.

Docket Numbers: RP16-1041-000.

Applicants: Enable Mississippi River Transmission, L.

Description: § 4(d) Rate Filing: Negotiated Rate Filing to Remove Union Electric #3668 Effective 5_25_16 to be effective 5/25/2016.

Filed Date: 6/23/16.

Accession Number: 20160623-5132.

Comments Due: 5 p.m. ET 7/5/16.

Docket Numbers: RP16-1042-000.

Applicants: Granite State Gas Transmission, Inc.

Description: § 4(d) Rate Filing: Section 4 Rate Change to be effective 8/1/2016.

Filed Date: 6/24/16.

Accession Number: 20160624-5142.

Comments Due: 5 p.m. ET 7/6/16.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP95-408-083.

Applicants: Columbia Gas Transmission, LLC.

Description: Annual Report on Sharing Profits from Base Gas Sales with Customers of Columbia Gas Transmission, LLC under RP95-408.

Filed Date: 4/29/16.

Accession Number: 20160429-5550.

Comments Due: 5 p.m. ET 7/6/16.

Docket Numbers: RP16-872-001.

Applicants: El Paso Natural Gas Company, L.L.C.

Description: Compliance filing Non-Conforming Negotiated TSA Compliance Filing (Anadarko) to be effective 8/1/2016.

Filed Date: 6/24/16.

Accession Number: 20160624-5091.

Comments Due: 5 p.m. ET 7/6/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 27, 2016.
Nathaniel J. Davis, Sr.,
Deputy Secretary.

[FR Doc. 2016-16239 Filed 7-8-16; 8:45 am]

BILLING CODE 6717-01-P